Executive Order 13723 of March 30, 2016

Establishing the Inherent Resolve Campaign Medal

By the authority vested in me as President by the Constitution and the laws of the United States of America, including my authority as Commander in Chief of the Armed Forces of the United States, it is hereby ordered as follows:

Section 1. Inherent Resolve Campaign Medal. There is hereby established the Inherent Resolve Campaign Medal with suitable appurtenances. Except as limited in section 2 of this order, and under regulations to be prescribed by the Secretary of Defense, or under regulations to be prescribed by the Secretary of Homeland Security with respect to the Coast Guard when it is not operating as a service in the Navy, the Inherent Resolve Campaign Medal shall be awarded to members of the Armed Forces of the United States who serve or have served in Iraq, Syria, or contiguous waters or airspace on or after June 15, 2014, and before a terminal date to be prescribed by the Secretary of Defense.

Sec. 2. Relationship to Other Awards. Notwithstanding section 1 of Executive Order 13289 of March 12, 2003, Establishing the Global War on Terrorism Expeditionary Medal, any member who qualified for that medal by reason of service in Iraq, Syria, or contiguous waters or airspace between June 15, 2014, and a terminal date to be determined by the Secretary of Defense, shall remain qualified for that medal. Upon application, a member by reason of service in Iraq, Syria, or contiguous waters or airspace may be awarded the Inherent Resolve Campaign Medal in lieu of the Global War on Terrorism Expeditionary Medal. A member may be awarded either the Inherent Resolve Campaign Medal or the Global War on Terrorism Expeditionary Medal by reason of service in Iraq, Syria, or contiguous waters or airspace. No member shall be entitled to the award of more than one of these two medals for the same period of service.

Sec. 3. Posthumous Award. The Inherent Resolve Campaign Medal may be awarded posthumously to any person covered by and under regulations prescribed in accordance with the first section of this order.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

March 30, 2016.

[FR Doc. 2016-07703

Filed 3-31-16; 11:15 am]

Billing code 3295-F6-P